POSTAL SERVICE

39 CFR Part 20

International Product and Price Changes

AGENCY: Postal Service.™

ACTION: Final rule.

SUMMARY: The Postal Service is revising Mailing Standards of the United States Postal Service, International Mail Manual (IMM®), to reflect changes to the prices and product features for Mailing and Shipping Services.

DATES: Effective Date: May 11, 2009. We will implement this international price change concurrent with our domestic Mailing Services price change.

FOR FURTHER INFORMATION CONTACT: Obataiye B. Akinwole at 703-292-5260 or Rick Klutts at 813-877-0372.

SUPPLEMENTARY INFORMATION: The Governors of the Postal Service established new prices and product features for some of our Mailing and Shipping Services. This Federal Register final rule describes the international price and product changes by mail category as follows:

First-Class Mail International

First-Class Mail International service provides a reliable and economical means of sending correspondence (e.g., letters and postcards), documents, and lightweight merchandise weighing up to 4 pounds.

Postcards

Postcards consist of single cards sent without a wrapper or envelope. The price structure for postcards is expanded to include three separate prices: Canada, Mexico, and all other countries. Previously Canada and Mexico were priced the same.

International Priority Airmail (IPA)

IPA is a commercial service designed to meet the needs of the business mailer. It is available for volume mailings of all First-Class Mail International postcards, letters, large envelopes (flats), and packages (small packets). IPA service is more economical than regular First-Class Mail International service. Customers must tender only First-Class International items and must meet specified volume and sortation requirements. Each IPA mailing must weigh a minimum of 50 pounds. To achieve the 50-pound minimum, a mailing may consist of a combination of presorted mail, worldwide nonpresort mail, and M-bags.

To better capitalize on revenue opportunities and to reduce operational costs we have expanded our price groups from 9 to 15. In addition, there are also numerous IPA structural changes that include:

• Seven new country specific price groups. Previously, there were three country specific price groups (Canada, Mexico and Australia) and six other price groups containing multiple countries. There are now ten specific price groups, and five price groups that will contain multiple countries. The ten country specific price groups are:

Country | Price group
Canada | 1
Mexico | 2
Great Britain & Northern Ireland | 3
Germany | 4
France | 5
Switzerland | 6
Italy | 7
Netherlands | 8
Australia | 9
Japan | 10

• To provide consistency and ease of use, we aligned eligibility and preparation requirements for International Priority Airmail™ (IPA®) and International Surface Air Lift® (ISAL®) service where possible.

• Currently, both direct country and mixed country sacks can be entered at the full service or destination International Service Center (ISC) drop shipment prices. Effective May 11, 2009, only direct country sacks can be entered at the full service price. All other mail must be entered at the worldwide nonpresort price.

• The minimum weight for direct country and mixed country sacks (ISC drop shipment only) is now 5 pounds.

• The minimum volume requirements are now the same for IPA and ISAL mailings—50 pounds.

Direct Sacks of Printed Matter to One Addressee (IPA M-Bags)

M-bags are direct sacks of printed matter to one addressee. Prices are based on the total weight of the contents in the sack.

International Surface Air Lift (ISAL)

ISAL is a commercial service, which provides expedited dispatch and transportation for all types of First-Class Mail International items weighing up to 4 pounds. Each ISAL mailing must weigh a minimum of 50 pounds. To achieve the 50-pound minimum, a mailing may consist of a combination of presorted mail, worldwide nonpresort mail, and M-bags.

The structural changes noted above for IPA also apply to ISAL. In addition to those changes, the worldwide nonpresort price previously only available for IPA will now also be available for ISAL. This change will eliminate ISAL residual sacks.

Presort and drop shipment prices, as well as volume pricing, are still available for commercial customers who meet international customized mail program requirements. Postage for ISAL is based on country price groups.

Direct Sacks of Printed Matter to One Addressee (ISAL M-Bags)

M-bags are direct sacks of printed matter to one addressee. Prices are based on the total weight of the contents in the bag.

International Extra Services

Customers may add value to the way mail is shipped or received with a variety of extra services, including: Certificate of mailing, Registered Mail™, restricted delivery, return receipt, business reply cards and envelopes, reply coupons, international postal money orders, and insurance for Global Express Guaranteed®, Express Mail International®, and Priority Mail International™ (parcels).

We revised the prices for the following international extra services: Express Mail International insurance, Priority Mail International insurance, Registered Mail, restricted delivery, and return receipt.

The Postal Service hereby adopts the following changes to Mailing Standards of the United States Postal Service, International Mail Manual (IMM), which is incorporated by reference in the Code of Federal Regulations. See 39 CFR 20.1

List of Subjects in 39 CFR Part 20

Foreign relations, International postal services.

Accordingly, 39 CFR Part 20 is amended as follows:

PART 20—[AMENDED]

1. The authority citation for 39 CFR Part 20 continues to read as follows:

Authority: 5 U.S.C. 552(a); 39 U.S.C. 401, 404, 407, 408, 3622, 3632 and 3633.

2. Revise the following sections of Mailing Standards of the United States Postal Service, International Mail Manual (IMM), as follows:

* * * * *

2 Conditions for Mailing

* * * * *

220 Express Mail International

221 Description

* * * * *

221.3 Insurance and Indemnity

221.31 Express Mail International Merchandise Insurance

[Revise 221.31 to read as follows:]

Express Mail International merchandise insurance coverage against loss, damage, or rifling is provided up to $100 at no additional charge. Additional insurance coverage above $100 and up to a maximum of $5,000 may be purchased at the sender's option. See Individual Country Listings for merchandise insurance limits. The fee schedule for optional Express Mail International merchandise insurance coverage is as follows:

[Add new Express Mail insurance chart as follows:]

International Insurance

Express Mail International Insurance
Indemnity limit not over | Fee
$0.01 to $100 | $0.00
100.01 to 200 | 0.75
200.01 to 500 | 2.15
500.01 to 1,000 | 3.55
1,000.01 to 1,500 | 4.95
1,500.01 to 2,000 | 6.35
2,000.01 to 2,500 | 7.75
2,500.01 to 3,000 | 9.15
3,000.01 to 3,500 | 10.55
3,500.01 to 4,000 | 11.95
4,000.01 to 4,500 | 13.35
4,500.01 to 5,000 | 14.75

* * * * *

240 First-Class Mail International

* * * * *

243 Physical Characteristics

243.1 Postcards

* * * * *

243.13 Postage Prices and Fees

[Revise items 243.13a and b, and add new item c as follows:]

The postage prices for postcards are as follows:

a. Canada: $0.75.

b. Mexico: $0.79.

c. All other countries: $0.98.

* * * * *

290 Commercial Services

* * * * *

[Delete current 292 in its entirety and replace to read as follows:]

292 International Priority Airmail (IPA) Service

292.1 Description

292.11 General

International Priority Airmail (IPA) service is available for volume mailings of all First-Class Mail International postcards, letters, large envelopes (flats), and packages (small packets). The sender must prepare mailpieces in accordance with the shape-based requirements of First-Class Mail International service (see 240) and the requirements of this subchapter. Separate prices are provided for International Service Center (ISC) drop shipments, presorted mail, and worldwide nonpresort mail. Volume incentives are available through customized agreements.

292.12 IPA M-Bags

IPA M-bags (direct sacks of printed matter to one addressee) may be entered in conjunction with an IPA mailing, are subject to the provisions of 260, and may be sent to all destination countries that are referenced in Exhibit 292.452. When using this method of mail preparation, the sender must complete PS Tag 115, International Priority Airmail, and PS Tag 158, M-bag Addressee Tag. Tags must be attached securely to the neck of the sack.

292.2 Eligibility

292.21 Qualifying Mailpieces

Any First-Class Mail International mailpiece that meets the characteristics as defined in 141.5 qualifies. Mailpieces do not have to be of the same size and weight to qualify. Any item sent by IPA must conform to the weight and size limits for First-Class Mail International postcards, letters, large envelopes (flats), and packages (small packets) as described in 240.

292.22 Availability

IPA service is available to all foreign countries, as listed in Exhibit 292.452, which shows the price group assigned to each country.

292.23 Minimum Quantity Requirements

292.231 Minimum Quantity

All mailings must meet a minimum weight quantity of 50 pounds. To achieve the 50-pound minimum, mailings may include a combination of presorted mail, worldwide nonpresort mail, or M-bags.

292.232 Presort Eligibility—Full Service

Only direct country sacks containing a minimum of 5 pounds in each sack qualify for the presort price. All remaining mail must be prepared and paid at the worldwide nonpresort price.

292.233 Presort Eligibility—ISC Drop Shipment

Only direct country sacks and mixed country sacks containing a minimum of 5 pounds in each sack qualify for the presort price. Price groups containing less than 5 pounds must be prepared and paid at the worldwide nonpresort price.

292.24 Dutiable Items

Dutiable items may be sent in accordance with the applicable rules in this subchapter for each respective category of mail. Priority Mail International items, either ordinary or insured, may not be mailed as IPA.

292.25 Customs Forms Requirements

See 123 for customs forms requirements.

292.26 Extra Services

Extra services are not available for items sent by IPA.

292.3 Prices and Postage Payment Methods

292.31 Prices

292.311 General

IPA service has two price options: a presort price option with 15 price groups, and a worldwide nonpresort price (292.311a). Both options offer full service prices (292.311b) for mail deposited at offices other than the drop shipment offices listed in 292.531; and drop shipment prices (292.311c) for mail deposited at one of the drop shipment offices. The per-piece price and per-pound price are shown in Exhibit 292.311a. The per-piece price applies to each piece regardless of its weight. The per-pound price applies to the net weight (gross weight minus tare weight of sack or tray) of the mail for the specific price group. Fractions of a pound are rounded to the next whole pound for postage calculation.

Exhibit 292.311a

International Priority Airmail (IPA) Prices
Direct country sacks: Price group | Direct country sacks: Per piece | Direct country sacks: Full service per lb. | Direct country sacks: ISC drop shipment per lb. | Mixed country sacks: Per piece | Mixed country sacks: Full service per lb. | Mixed country sacks: ISC drop shipment per lb.
1 | $0.43 | $7.12 | $4.62 |  |  |
2 | 0.15 | 6.69 | 4.19 |  |  |
3 | 0.42 | 9.07 | 6.57 |  |  |
4 | 0.45 | 9.52 | 7.02 |  |  |
5 | 0.43 | 9.26 | 6.76 |  |  |
6 | 0.44 | 9.26 | 6.76 |  |  |
7 | 0.42 | 9.00 | 6.50 |  |  |
8 | 0.41 | 9.00 | 6.50 |  |  |
9 | 0.33 | 9.97 | 7.47 |  |  |
10 | 0.41 | 9.20 | 6.70 |  |  |
11 | 0.40 | 9.00 | 6.50 | $0.42 |  | $6.83
12 | 0.15 | 8.00 | 5.50 | 0.16 |  | 5.78
13 | 0.16 | 7.35 | 4.85 | 0.17 |  | 5.10
14 | 0.15 | 9.00 | 6.50 | 0.16 |  | 6.83
15 | 0.12 | 9.50 | 7.00 | 0.13 |  | 7.35

Worldwide Nonpresort Sacks
Price group | Per piece | Full service per lb. | ISC drop shipment per lb.
n/a | $0.47 | $10.98 | $8.09

Exhibit 292.311b

International Priority Airmail (IPA) M-Bag—Full Service
Price group | Full service per lb.
1 | $4.60
2 | 5.20
3 | 6.10
4 | 6.10
5 | 6.10
6 | 6.10
7 | 6.10
8 | 6.10
9 | 8.10
10 | 7.65
11 | 6.10
12 | 6.90
13 | 6.70
14 | 7.45
15 | 7.35
Note: Full Service M-bags are subject to the minimum price for 11 lbs.

Exhibit 292.311c

International Priority Airmail (IPA) M-Bag—ISC Drop Shipment
Price group | 5 lbs. | 6 lbs. | 7 lbs. | 8 lbs. | 9 lbs. | 10 lbs. | 11 lbs. | Each additional pound
1 | $19.30 | $19.75 | $20.20 | $20.65 | $21.10 | $21.55 | $22.00 | $2.00
2 | 25.00 | 25.60 | 26.20 | 26.80 | 27.40 | 28.00 | 28.60 | 2.60
3 | 30.85 | 31.85 | 32.85 | 33.85 | 34.85 | 35.85 | 36.85 | 3.35
4 | 30.85 | 31.85 | 32.85 | 33.85 | 34.85 | 35.85 | 36.85 | 3.35
5 | 30.85 | 31.85 | 32.85 | 33.85 | 34.85 | 35.85 | 36.85 | 3.35
6 | 30.85 | 31.85 | 32.85 | 33.85 | 34.85 | 35.85 | 36.85 | 3.35
7 | 30.85 | 31.85 | 32.85 | 33.85 | 34.85 | 35.85 | 36.85 | 3.35
8 | 30.85 | 31.85 | 32.85 | 33.85 | 34.85 | 35.85 | 36.85 | 3.35
9 | 47.75 | 49.60 | 51.45 | 53.30 | 55.15 | 57.00 | 58.85 | 5.35
10 | 44.50 | 46.25 | 48.00 | 49.75 | 51.50 | 53.25 | 55.00 | 5.00
11 | 30.85 | 31.85 | 32.85 | 33.85 | 34.85 | 35.85 | 36.85 | 3.35
12 | 38.75 | 39.90 | 41.05 | 42.20 | 43.35 | 44.50 | 45.65 | 4.15
13 | 38.65 | 39.45 | 40.25 | 41.05 | 41.85 | 42.65 | 43.45 | 3.95
14 | 44.80 | 45.95 | 47.10 | 48.25 | 49.40 | 50.55 | 51.70 | 4.70
15 | 42.50 | 43.85 | 45.20 | 46.55 | 47.90 | 49.25 | 50.60 | 4.60
Note: ISC Drop Shipment M-bags are subject to the minimum price for 5 lbs.

292.32 Computation of Postage

Postage is computed on PS Form 3700, Postage Statement—International Mail.

292.321 Computing Worldwide Nonpresort Prices

To compute postage at the worldwide nonpresort price multiply the number of pieces in the mailing by the applicable per-piece price, multiply the net weight (in whole pounds) of the entire mailing by the applicable per-pound price, and then add the two totals together.

292.322 Computing Presort Prices

To compute postage at the presorted price multiply the number of pieces in the mailing destined for countries in a specific price group by the appropriate per-piece price, multiply the net weight (in whole pounds) of those pieces by the corresponding per-pound price, and then add the two totals together.

292.33 Postage Payment Methods

292.331 General

Postage must be paid by postage meter, permit imprint, or precanceled stamps (see DMM 604).

292.332 Postage Meter

Payments made by postage meter are subject to the following standards:

a. Piece Price. The applicable per piece postage shown in 292.311a must be affixed to each mailpiece when paying with a meter. Mailers who have an ICM agreement must affix the applicable per piece postage as set forth in their ICM agreement.

b. Pound Price. Postage for the pound price portion must be paid either by meter stamp(s) attached to the postage statement or from the mailer's authorized permit imprint advance deposit account.

c. Postage Endorsement. Each piece must be legibly endorsed with the words “INTERNATIONAL PRIORITY AIRMAIL.”

d. Specifications for Endorsement. The endorsement required in 292.332c must appear on the address side of each piece and must be applied by a printing press, hand stamp, or other similar printing device. It must be printed above the name of the addressee and to the left or below the postage, or it may be printed adjacent to the meter stamp in either the postal inscription slug area or ad plate area. If the postal endorsement appears in the ad plate area, no other information may be printed in the ad plate. The endorsement may not be typewritten or hand-drawn. The endorsement is not considered adequate if it is included as part of a decorative design or advertisement.

e. Unmarked Pieces. Unmarked pieces lacking the postage endorsement are subject to the First-Class Mail International single-piece price.

f. Drop Shipment of Metered Mail. Mailers who want to enter metered IPA mail at a Post Office facility other than where the meter is licensed must obtain a drop shipment authorization. To obtain an authorization, the mailer must submit a written request to the postmaster at the office where the mail will be entered (see DMM 705).

292.333 Precanceled Stamps

Payments made by precanceled stamps are subject to the following standards:

a. Piece Price. The same denomination of stamp must be affixed to every piece in the mailing.

b. Pound Price. Additional postage is paid at the time of mailing by advance deposit account or meter stamp affixed to the back of the accompanying postage statement.

c. Postage Endorsement. Each piece must be legibly endorsed with the words “INTERNATIONAL PRIORITY AIRMAIL.”

d. Specifications for Endorsement. The endorsement required in 292.333c must appear on the address side of each piece and must be applied by a printing press, hand stamp, or other similar printing device. It must be printed above the name of the addressee and to the left or below the postage, or it may be printed adjacent to the precanceled stamp. The endorsement may not be typewritten or hand-drawn. The endorsement is not considered adequate if it is included as part of a decorative design or advertisement.

e. Unmarked Pieces. Unmarked pieces lacking the postage endorsement are subject to the First-Class Mail International single-piece price.

292.334 Permit Imprint

Mailers may use a permit imprint for mailings that contain identical weight pieces. Any of the permit imprints shown in Exhibit 152.44 are acceptable. Postage is calculated as described in 292.32 and is deducted from the mailer's advance deposit account. Permit imprints must not denote bulk mail, nonprofit, or other domestic or special mail. Mailers may use permit imprint with nonidentical weight pieces only if authorized to use postage mailing systems under DMM 705.

292.4 Mail Preparation

292.41 Addressing

International Priority Airmail is subject to the addressing requirements contained in 122.

a. Exception—Canada: International Priority Airmail items destined for Canada must have the applicable alphanumeric postcode included in the delivery address. See 122.1k for the address formatting requirements that generally apply to mailpieces sent to Canada.

b. Exception—Direct Country Sacks: International Priority Airmail in direct country sacks (see 292.461) is not subject to the interline addressing requirement that is specified in 122.1d. At the sender's risk, the English translation of the destination Post Office or city name may be omitted from printed addresses that are in Russian, Greek, Arabic, Hebrew, Cyrillic, Japanese, or Chinese characters. An English translation of the country name (e.g., Japan) is still required on the individual mailpieces.

292.42 Marking

292.421 Letter-Size and Flat-Size Mailpieces

The sender should mark “PAR AVION” or “AIR MAIL” on the address side of each piece. Use of bordered airmail envelopes is optional and may be used for items sent in this service if the envelope contains the “AIR MAIL” endorsement.

292.422 Packages (Small Packets)

Items that might be mistaken for another class of mail due to size, weight, or appearance should be marked “LETTER-POST” on the address side.

292.43 Sealing

Mail that is sent via IPA service may be sealed at the sender's option. See 244.4 for the packaging methods that are applicable to all First-Class Mail International items.

Exception: For direct country sacks only, First-Class Mail International folded mailpieces, without envelopes, are permitted provided one of the following methods is used:

1. All of the open sides are secured with tape, tabs, or wafer seals of sufficient quantity and strength to prevent the mailpieces from opening or being damaged during postal handling.

2. The mailpieces meet the physical standards and tabbing requirements in DMM 201.3.

292.44 Physical Characteristics and Requirements for All Bundles

The following standards apply:

a. Thickness. Bundles of letter-size mail must be no thicker than approximately a handful of mail (4 to 6 inches thick). Bundles of flat-size mail may be thicker than 6 inches but must not weigh more than 11 pounds.

b. Securing Bundles. Each bundle must be securely tied to withstand normal transit. Placing rubber bands around the length and then the girth is the preferred method of securing bundles of letter-size mail. Plastic strapping placed around the length and then the girth is the preferred method of securing bundles of flat-size mail.

c. Separation of Bundles. Letter-size and flat-size mail must be bundled separately.

d. Facing of Pieces. All pieces in bundles must be faced in the same direction.

292.45 Sortation

292.451 Presort Mailings—General

Follow these steps when preparing IPA presort mail (except for mail to Canada):

a. Full Service. For presort mailings, all mail addressed to an individual country that contains 5 pounds or more must be sorted into direct country bundles and sacked in direct country sacks. Mail that cannot be made up into direct country sacks must be prepared and entered at the worldwide nonpresort price.

b. ISC Drop Shipment. For presort mailings, all mail addressed to an individual country that contains 5 pounds or more must be sorted into direct country bundles and sacked in direct country sacks. Next, all mail addressed to individual countries within a single price group containing 5 pounds or more must be bundled separately and prepared in mixed country sacks. Mail that ultimately cannot be made up into direct country sacks or mixed country sacks must be prepared and entered at the worldwide nonpresort price.

Note: There are separate preparation requirements for mail to Canada. See 292.47.

292.452 Presorted Mail—Direct Country Bundle Label

A label (facing slip) for direct country bundles prepared in mixed country sacks must be completed and placed on the address side of the top piece of each bundle in such a manner that it will not become separated from the bundle. The pressure-sensitive labels and optional endorsement lines used domestically for presort mail are prohibited for IPA. Bundle labels (see Exhibit 292.452) must contain the following:

Line 1: Foreign Exchange Office.

Line 2: Country of Destination.

Line 3: Mailer, Mailer Location.

Example:

1150 VIENNA FLUG

AUSTRIA

RBA COMPANY, WASHINGTON DC

Exhibit 292.452

IPA Country Price Groups and Foreign Exchange Offices
Price group | Country | Destination code | Exchange office name
15 | Afghanistan | KBL | Kabul.
12 | Albania | TIA | Tirana.
15 | Algeria | ALG | Algiers.
11 | Andorra ¹
15 | Angola | LAD | Luanda.
13 | Anguilla | AXA | The Valley.
13 | Antigua and Barbuda | ANU | St. John's.
13 | Argentina | BUE | Buenos Aires Avion.
15 | Armenia | EVN | Yerevan.
13 | Aruba | AUA | Oranjestad.
12 | Ascension ¹
9 | Australia ² | SYD | Sydney.
11 | Austria | VIE | 1000 Wien.
15 | Azerbaijan | BAK | Baku.
11 | Azores ¹
13 | Bahamas | NAS | Nassau.
15 | Bahrain | BAH | Bahrain.
15 | Bangladesh | DAC | Dhaka Apt.
13 | Barbados | BGI | Bridgetown.
12 | Belarus | MSQ | Minsk PI 2.
11 | Belgium | BRU | Brussels EMC.
13 | Belize | BZE | Belize City.
15 | Benin | COO | Cotonou.
13 | Bermuda | BDA | Hamilton.
15 | Bhutan ¹
13 | Bolivia | LPB | La Paz.
13 | Bonaire ¹ ³
12 | Bosnia and Herzegovina | SJJ | Sarajevo.
15 | Botswana | GBE | Gabrone.
13 | Brazil | RIO | Rio de Janeiro.
13 | British Virgin Islands | RAD | Roadtown.
14 | Brunei Darussalam | BWN | Bandar Seri Begawan.
12 | Bulgaria | SOF | Sofia.
15 | Burkina Faso | OUA | Ouagadougou.
15 | Burundi | BJM | Bujumbura.
14 | Cambodia | PNH | Phnom Penh.
15 | Cameroon | DLA | Douala.
1 | Canada | See 292.47 Canadian Labeling Information.
15 | Cape Verde | RAI | Praia.
13 | Cayman Islands | GCM | Grand Cayman.
15 | Central African Republic | BGF | Bangui.
15 | Chad | NDJ | N'Djamena.
13 | Chile | SCL | Santiago Avion.
14 | China | BJS | Beijing.
13 | Colombia | BOG | Bogota Aeropuerto.
15 | Comoros Islands ¹
15 | Congo, Dem. Rep. of the | FIH | Kinshasa CTT.
15 | Congo, Rep. of the | BZV | Brazzaville.
| Cook Islands | RAR | Rarotonga.
5 | Corsica ¹
13 | Costa Rica | SJO | San Jose.
15 | Cote d'Ivoire | ABJ | Abidjan.
12 | Croatia | ZAG | Zagreb.
13 | Cuba | HAV | Havana Avion.
13 | Curacao ³ | CUR | Willemstad.
15 | Cyprus | NIC | Nicosia.
12 | Czech Republic | PRG | Prague 120.
11 | Denmark | CPH | Copenhagen INC.
15 | Djibouti | JIB | Djibouti.
13 | Dominica | DOM | Roseau.
13 | Dominican Republic | SDQ | Santo Domingo.
13 | Ecuador | UIO | Quito.
15 | Egypt | CAI | Cairo Int'l Airport.
13 | El Salvador | SAL | San Salvador.
15 | Equatorial Guinea | SSG | Malbo.
15 | Eritrea | ASM | Asmara.
12 | Estonia | TLL | Tallinn.
15 | Ethiopia | ADD | Addis Ababa.
13 | Falkland Islands ¹
12 | Faroe Islands ¹
14 | Fiji | NAN | Nadi.
11 | Finland | HEL | Helsinki.
5 | France | CDG | Roissy CI.
13 | French Guiana | CAY | Cayenne.
14 | French Polynesia | FAA | PPT Centre Traitement Courier Air.
15 | Gabon | LBV | Libreville.
15 | Gambia | BJL | Banjul.
15 | Georgia, Republic of | TBS | Tbilisi.
4 | Germany | FRA | Frankfurt/M.
15 | Ghana | ACC | Accra.
11 | Gibraltar | GIB | Gibraltar.
3 | Great Britain (includes England, Scotland, Wales, Northern Ireland, Guernsey, Jersey, Alderney, Sark, and The Isle of Man) | LON | Great Britain.
11 | Greece | ATH | Athens.
11 | Greenland ¹
13 | Grenada | GND | St. George's.
13 | Guadeloupe | PTP | Pointe-a-Pitre.
13 | Guatemala | GUA | Guatemala.
15 | Guinea | CKY | Conakry.
15 | Guinea-Bissau | OXB | Bissau.
13 | Guyana | GEO | Georgetown.
13 | Haiti | PAP | Port-au-Prince.
13 | Honduras | TGU | Tegucigalpa.
14 | Hong Kong | HKG | Victoria.
12 | Hungary | BUD | Budapest 1005.
11 | Iceland | REK | Reykjavik.
15 | India | DEL | Delhi Air.
14 | Indonesia | JKT | Jakarta Soekarnohatta.
15 | Iran | THR | Tehran.
15 | Iraq | BGW | Baghdad.
11 | Ireland | DUB | Dublin.
11 | Israel | TLV | Tel Aviv-Yafo.
7 | Italy | MIL | Milan.
13 | Jamaica | KIN | Kingston.
10 | Japan | NRT | Narita AP A.
15 | Jordan | AMM | Amman.
15 | Kazakhstan | ALA | Almaty PCI-5.
15 | Kenya | NBO | Nairobi.
14 | Kiribati | TRW | Tarawa.
14 | Korea, Democratic People's Republic of (North) ¹
14 | Korea, Republic of (South) | SEL | Seoul IPO.
15 | Kuwait | KWI | Kuwait MSC.
12 | Kyrgyzstan | FRU | Bichkek PI-1.
14 | Laos | VTE | Vientiane.
12 | Latvia | RIX | Riga OE Letters.
15 | Lebanon | BEY | Beirut.
15 | Lesotho | MSU | Maseru.
15 | Liberia | MLW | Monrovia.
15 | Libya | TIP | Tripoli.
11 | Liechtenstein ¹
12 | Lithuania | VNO | Vilnius.
11 | Luxembourg | LUX | Luxembourg Ville.
12 | Macao | MFM | Macau.
12 | Macedonia | SKP | 1003 SKOP JEB.
15 | Madagascar | TNR | Antananarivo TRI.
15 | Malawi | LBE | Limbe.
14 | Malaysia | KUL | Kuala Lumpur.
15 | Maldives | MLE | Male.
15 | Mali | BKO | Bamako.
15 | Malta | MAR | Valletta.
13 | Martinique | FDF | Fort de France.
15 | Mauritania | NKC | Nouakchott.
15 | Mauritius | MRU | Port Louis SSR.
2 | Mexico | MEX | Mexico Aereo DF.
15 | Moldova | KIV | Kishinev.
11 | Monaco | MCM | Monte Carlo.
14 | Mongolia ¹ | ULN | Ulaanbaatar CPO.
13 | Montenegro | TGD | Montenegro Post.
15 | Montserrat | MNI | Plymouth.
15 | Morocco | CAS | Casablanca CCI.
15 | Mozambique | MPM | CPI Maputo.
15 | Namibia | WDH | Windhoek.
14 | Nauru | INU | Nauru.
14 | Nepal | KTM | Kathmandu.
8 | Netherlands | AMS | Amsterdam EXP.
13 | Netherlands Antilles ¹ ³
14 | New Caledonia | NOU | Noumea CTC.
11 | New Zealand | AKL | Auckland.
13 | Nicaragua | MGA | Managua.
15 | Niger | NIM | Niamey CNTLC.
15 | Nigeria | LOS | Lagos.
11 | Norway | OSL | Oslo Letter Centre.
15 | Oman | MCT | Muscat.
15 | Pakistan | ISB | Islamabad IM.
13 | Panama | PTY | Panama City.
14 | Papua New Guinea | BOR | Boroko.
13 | Paraguay | ASU | Asuncion.
13 | Peru | LIM | Lima Transito.
14 | Philippines | MNL | Manila.
14 | Pitcairn Island ¹
12 | Poland | WAW | Warsaw Wer.
11 | Portugal | LIS | Lisbon Province.
15 | Qatar | DOH | Doha.
15 | Reunion | RUN | St. Denis.
12 | Romania | BUH | Bucuresti C.
12 | Russia | MOW | Moscow PCI-1.
15 | Rwanda | KGL | Kigali.
13 | Saba ¹ ³
13 | Saint Christopher (St. Kitts) and Nevis | SKB | Basseterre.
13 | Saint Eustatius ¹ ³
13 | Saint Helena ¹
13 | Saint Lucia | SLU | Castries.
13 | Saint Maarten ³ | SXM | Philipsburg.
13 | Saint Pierre and Miquelon ¹ |  |
13 | Saint Vincent and The Grenadines | KTN | Kingstown.
11 | San Marino ¹
12 | Sao Tome and Principe ¹
15 | Saudi Arabia | DMM | Dammam Central Post.
15 | Senegal | DKR | Dakar Centre de Tri Postal.
12 | Serbia, Republic of | BEG | Belgrad C 11003 Letters.
15 | Seychelles | SEZ | Victoria Seychelles Post Office.
15 | Sierra Leone | FNA | Freetown.
14 | Singapore | SIN | Singapore.
12 | Slovak Republic (Slovakia) | BTS | Bratislava 090.
12 | Slovenia | LJU | Ljubljana 1003.
14 | Solomon Islands | HIR | Honiara.
15 | Somalia | MGQ | Mogadishu.
15 | South Africa | JNB | Johannesburg.
11 | Spain | MAD | Madrid Airport.
15 | Sri Lanka | CMB | Colombo.
15 | Sudan | KRT | Khartoum.
13 | Suriname | PBM | Paramaribo.
15 | Swaziland | MTS | Manzini.
11 | Sweden | STO | Stockholm Flug.
6 | Switzerland | ZRH | Zurich 1.
15 | Syria | DAM | Damascus.
14 | Taiwan | TPE | Taipei.
15 | Tajikistan | DYU | Dushanbe.
15 | Tanzania | DAR | Dar es Salaam.
14 | Thailand | BKK | Suvarnabhumi Mail Centre.
15 | Togo | LFW | Lome.
14 | Tonga | TBU | Nukualofa.
13 | Trinidad and Tobago | POS | Port of Spain.
15 | Tristan da Cunha ¹
15 | Tunisia | TUN | Tunis.
12 | Turkey | IST | Istanbul Uluslararasi Posta Isleme.
12 | Turkmenistan | ASB | Achgabat PI-1.
13 | Turks and Caicos Islands | GDT | Grand Turk.
14 | Tuvalu ¹
15 | Uganda | KLA | Kampala.
15 | Ukraine | IEV | Kiev PI-1.
15 | United Arab Emirates | DXB | Dubai.
13 | Uruguay | MVD | Montevideo.
15 | Uzbekistan | TAS | Tashkent.
14 | Vanuatu | VLI | Port Vila.
11 | Vatican City | VAT | Vatican City.
13 | Venezuela | CCS | Caracas.
14 | Vietnam | SGN | Ho Chi Minh Ville.
14 | Wallis and Futuna Islands ¹
14 | Western Samoa | APW | Apia.
15 | Yemen | SAH | Sanaa.
15 | Zambia | LUN | Lusaka Airmail.
15 | Zimbabwe | HRE | Harare CSO.
Footnotes:
¹ Direct country sacks are not made to these destinations. Prepare direct country packages and include in mixed direct country sacks labeled to the assigned U.S. exchange office listed in 292.462.
² At the mailer's option, a finer sortation for IPA items addressed to Australia may be used. If this option is chosen, items addressed with postal codes beginning with 0, 1, 2, 4, and 9 and uncoded mail should be sorted and packaged to Sydney. Direct country sacks should be tagged to Sydney as well. Both the three-letter exchange office code, “SYD,” and the country name, Australia, should be entered in the “TO” block of Tag 178. Items addressed with postal codes beginning with 3, 5, 6, 7, and 8 should be sorted and packaged to Melbourne. Direct country sacks should be tagged to Melbourne as well. Both the three-letter exchange office code, “MEL,” and the country name, Australia, should be entered in the “TO” block of Tag 178.
³ Netherlands Antilles includes Bonaire, Curacao, Saba, St. Eustatius, and St. Maarten.

* * * * *

292.453 Worldwide Nonpresort Mail—Bundles

IPA mail paid at the worldwide nonpresort price must be made into bundles as defined in 292.44. Letters and flats must be bundled separately, although nonidentical pieces may be commingled within each of these categories. Pieces that cannot be bundled because of their physical characteristics must be placed loose in the sack and do not require labeling (facing slips).

292.46 Sacking Requirements

292.461 Direct Country Sack (5 Pounds or More)

The following standards apply:

a. General. When there are 5 pounds or more of mail addressed to the same country, the mail must be enclosed in a Direct Country Sack. All types of mail, including letter-size bundles, flat-size bundles, and loose items, can be commingled in the same sack for each destination and counted toward the 5-pound minimum. The maximum weight of the sack and contents must not exceed 66 pounds.

b. Direct Country Sack Tags. Direct country sacks must be labeled with PS Tag 155, Surface Airlift Mail, showing the destination country. The mailer must also specify the price group on the back of PS Tag 155.

c. Direct Country Sack Label. The sack label must be completed as follows. (See Exhibit 292.462 for list of U.S. International Exchange Offices.)

Line 1: Appropriate U.S. Exchange Office and Routing Code

Line 2: Contents—DRX COUNTRY

Line 3: Mailer, Mailer Location

Example:

ISC NEW YORK NY 003

IPA—DRX COUNTRY

ABC STORE, ALBANY, NY

292.462 Mixed Country Sacks (5 Pounds or More—ISC Drop Shipment Only)

The following standards apply:

a. General. When mail is prepared under the ISC drop shipment option, direct country bundles destined to a specific country that cannot be made up in direct country sacks must be prepared in a mixed country sack. A mixed country sack must be prepared for each price group. Only countries in price groups 11 through 15 are eligible for this price. The maximum weight of the sack and the contents must not exceed 66 pounds.

b. Mixed Country Sack Tags. Mixed country sacks must be labeled with PS Tag 155, Surface Airlift Mail, which identifies the mail to ensure it receives priority handling. The mailer must specify the price group on the back of PS Tag 155.

c. Mixed Country Sack Label. The sack label must be completed as follows.

(See Exhibit 292.462 for list of U.S. International Exchange Offices.)

Line 1: Appropriate U.S. Exchange Office and Routing Code

Line 2: Contents—DRX MIXED

Line 3: Mailer, Mailer Location

Example:

ISC NEW YORK NY 003

IPA—DRX MIXED

ABC STORE, ALBANY NY

Exhibit 292.462

Labeling of IPA Mail to Postal Service Exchange Offices
IPA acceptance office 3-digit ZIP code prefix | U.S. exchange office and routing code for line 1
004-005, 010-089, 100-268, 270-297, 400-418, 420-427, 470-471, 476-477 | ISC NEW YORK NY 003.
006-009, 298-339, 341-342, 344, 346-347, 349-397, 399 | ISC MIAMI FL 33112.
424, 430-469, 478-516, 520-528, 530-531, 534-535, 537-567, 570-588, 600-620, 622-631, 633-641, 644-658, 660-662, 664-681, 683-693, 700-708, 710-799, 885 | ISC CHICAGO IL 60290.
590-599, 821, 832-838, 970-986, 970-999 | AMC SEATTLE WA 980.
800-816, 820, 822-831, 840-847, 893-898, 937-961 | ISC SAN FRANCISCO CA 94013.
850, 852-853, 855-857, 859-860, 863-865, 870-875, 877-884, 889-891, 900-908, 910-928, 930-936 | ISC LOS ANGELES CA 900.
967-969 | P&DC HONOLULU HI 967.

292.463 Worldwide Nonpresort Mail Sacks

The following standards apply:

a. General. The working bundles of mixed country mail and loose items must be enclosed in sacks unless other equipment is specified by the acceptance office. Nonpresorted letter-size mail may be presented in trays if authorized by the acceptance office. The maximum weight of the sack, or tray, and the contents must not exceed 66 pounds.

Note: Working bundles of mixed country mail cannot be enclosed in mixed country sacks.

b. Worldwide Nonpresort Sack Tags. Sack tags for worldwide nonpresort sacks must be labeled with PS Tag 155, Surface Airlift Mail that identifies the mail to ensure it receives priority handling. The mailer must specify “WW” (worldwide) on the back of PS Tag 155.

c. Worldwide Nonpresort Mail Sack Label. The sack label must be completed as follows: (See Exhibit 292.462 for list of U.S. International Exchange Offices.)

Line 1: Appropriate U.S. Exchange Office and Routing Code

Line 2: Contents WKG

Line 3: Mailer, Mailer Location

Example:

ISC MIAMI FL 33112

IPA—WKG

ABC COMPANY, MIAMI FL

292.47 Mail Preparation for Canada

Letter-size, flat-size, and package-size items must be prepared in separate containers. To qualify for the presort price, the same eligibility requirements for full service (see 292.232), or ISC drop shipment (see 292.233) apply. If the total mailing contains less than 5 pounds of mail for Canada, then the mail only qualifies for the worldwide nonpresort price but may be included with mail for other countries. Mailings that only contain worldwide nonpresort mail for Canada (50 pound minimum) are prepared under 292.453 and 292.463. The preparation requirements of presorted mail to Canada are as follows.

a. Letter-Size and Flat-Size Mail. Letter-size items are prepared in letter trays, either 1-foot or 2-foot, depending on volume. Flat-size items are prepared in flat trays. All items must be faced in the same direction, and all trays must be full enough to keep the mail from mixing during transportation. Do not prepare the content of the tray in bundles. Letter-size and flat-size trays must be sleeved or covered and secured with strapping. The mailer must identify each tray label to show the destination in Canada, content and the dispatching U.S. international exchange office in the following format: See Exhibit 292.47 for Canadian labeling information.

Line 1: Canadian Destination, U.S. Exchange Office Code

Line 2: Contents

Line 3: Mailer, Mailer Location

Example:

MONTREAL QC FWD 003

IPA

ABC COMPANY, NEW YORK NY

In addition, the mailer must complete PS Tag 115, International Priority Airmail. Write “Canada” on the reverse and tape the tag to the tray sleeve. All trays must be banded.

b. Packages. Items that cannot be prepared in trays because of their size or shape must be placed loose in sacks. Mailers must complete PS Tag 115, International Priority Airmail. Write “Canada” on the reverse side of the tag and label. In addition, mailers must also attach a completed PS Tag 178, Airmail Bag Label.

Exhibit 292.47

Canadian Labeling Information
Origin ZIP code | Exchange office | Canadian destination | U.S. exchange office code
004-005, 010-089, 100-268, 270-297, 400-418, 420-427, 470-471, 476-477 | JFK | MONTREAL QC FWD | 003
298-339, 341-342, 344, 346-347, 349-397, 399, 723 | MIA | MONTREAL QC FWD | 33112
430-469, 472-475, 478-516, 520-528, 530-567, 570-588, 600-631, 633-641, 644-658, 660-662, 664-681, 683-693, 700-708, 710-722, 724-816, 822-831, 840-847, 870-885, 893, 898 | ORD | TORONTO ON FWD | 60290
590-599, 821, 832-838, 970-999 | SEA | VANCOUVER BC FWD | 98158
820, 894-895, 937-961 | SFO | VANCOUVER BC FWD | 94013
850, 852-853, 855-857, 859-860, 863-865, 889-891, 900-908, 910-928, 930-936 | LAX | VANCOUVER BC FWD | 90899
967-969 | HNL | VANCOUVER BC FWD | 96820

292.5 Enter and Deposit

292.51 Separation by Price Group

The mailer must specify the price group on the back of PS Tag 115, International Priority Airmail, with (e.g., “1” for Canada, and “WW” for Worldwide nonpresort), and must physically separate the sacks by price group at the time of mailing.

292.52 Full Service

Mailings must be deposited at a Post Office facility where bulk mail is accepted and the mailer holds an advance deposit account or postage meter license.

292.53 Drop Shipment

To qualify for the drop shipment price, mailers must present the mail to one of the locations in 292.531. The mailer must pay postage at the drop shipment location either through an advance deposit account or postage meter license at the serving Post Office facility. As an alternative, mailers who are participating in the Plant-Verified Drop Shipment (PVDS) program may have the mail verified, accepted, and paid for at the mailers plant or at the origin Post Office facility serving the mailers plant if authorized under DMM 705. Plant-verified drop shipment mail must be transported by the mailer to the drop shipment location and the mail must be accompanied by PS Form 8125, Plant-Verified Drop Shipment (PVDS) Verification and Clearance.

292.531 Drop Shipment Locations

Drop shipments are available through the following offices:

New York: John F Kennedy Airport Mail Ctr, US Postal Service, John F Kennedy International Airport Bldg 250, Jamaica, NY 11430-9998.

Florida: Miami International Service Ctr*, US Postal Service, 11698 NW 25th St., Miami, FL 33112-9997.

Miami Processing and Distribution Ctr, US Postal Service, 2200 NW 72nd Ave., Miami, Fl 33152-9997.

Texas: North Texas P&DC, US Postal Service, 951 W Bethel Rd, Coppell, TX 75099-8811.

Illinois: JT Weeker International Service Center, US Postal Service, O'Hare International Airport, 514 Express Center Dr., Chicago, IL 60688-9998.

California: Los Angeles ISC, US Postal Service, 5800 W Century Blvd., Los Angeles, CA 90009-9998.

San Francisco ISC, US Postal Service, 2650 Bayshore Blvd., Daly City, CA 94013-1631.

* Only plant-verified mail is transported to these facilities by the mailer.

[Delete current 293 in its entirety and replace to read as follows:]

293 International Surface Air Lift (ISAL) Service

293.1 Description

293.11 General

International Surface Air Lift (ISAL) is a bulk mailing system that provides fast, economical international delivery of First-Class Mail International items. The cost is lower than First-Class Mail International service. ISAL shipments are flown to the foreign destinations and entered into that country's surface or nonpriority mail system for delivery. Separate prices are provided for International Service Center (ISC) drop shipments, presorted mail, and nonpresorted mail. Volume incentives are available through customized agreements.

293.12 ISAL M-Bags

ISAL M-bags (direct sacks of printed matter to one addressee) may be entered in conjunction with an ISAL mailing, are subject to the provisions of 260, and may be sent to all destination countries that are referenced in Exhibit 293.452. When using this method of mail preparation, the sender must complete PS Tag 155, Surface Air Lift Mail, and PS Tag 158, M-Bag Addressee Tag. Tags must be securely attached to the neck of the sack.

293.2 Eligibility

293.21 Qualifying Mailpieces

Any First-Class Mail International mailpiece that meets the characteristics defined in 141.5 qualifies to be mailed as ISAL. Mailpieces do not have to be of the same size and weight. Any item sent by ISAL must conform to the weight and size limits for First-Class Mail International postcards, letters, large envelopes (flats), and packages (small packets) as described in 240.

293.22 Availability

ISAL service is available to all foreign countries, as listed in Exhibit 293.452, which shows the price group assigned to each country.

293.23 Minimum Quantity Requirements

293.231 Minimum Quantity

All mailings must meet a minimum weight quantity of 50 pounds. To achieve the 50-pound minimum, mailings may include a combination of presort mail, worldwide nonpresort mail, or M-bags.

293.232 Presort Eligibility—Full Service

Only direct country sacks containing a minimum of 5 pounds in each sack qualifies for the presort price. All remaining mail must be prepared and paid at the worldwide nonpresort price.

293.233 Presort Eligibility—ISC Drop Shipment

Only direct country sacks and mixed country sacks containing a minimum of 5 pounds in each sack qualifies for the presort price. Price groups containing less than 5 pounds must be prepared and paid at the worldwide nonpresort price.

293.24 Dutiable Items

Dutiable items may be sent in accordance with the applicable rules in this subchapter for those classes of mail. Priority Mail International items, either ordinary or insured, may not be mailed as ISAL.

293.25 Customs Forms Requirements

See 123 for customs forms requirements.

293.26 Extra Services

Extra services are not available for items sent by ISAL.

293.3 Prices and Postage Payment Methods

293.31 Prices

293.311 General

ISAL service has two price options: a presort option with 15 price groups and a worldwide nonpresort option (293.311a). Both offer full service prices (293.311b) for mail deposited at offices other than the drop shipment offices listed in 293.531; and drop shipment prices (293.311c) for mail deposited at one of the drop shipment offices. The per-piece price and per-pound price are shown in Exhibit 293.311a. The per-piece price applies to each piece regardless of its weight. The per-pound price applies to the net weight (gross weight minus tare weight of sack or tray) of the mail for the specific price group. Fractions of a pound are rounded to the next whole pound for postage calculation.

Exhibit 293.311a

International Surface Air Lift (ISAL) Prices
Direct country sacks: Price group | Direct country sacks: Per piece | Direct country sacks: Full service per lb. | Direct country sacks: ISC drop shipment per lb. | Mixed country sacks: Per piece | Mixed country sacks: Full service per lb. | Mixed country sacks: ISC drop shipment per lb.
1 | $0.43 | $3.85 | $2.85 |  |  |
2 | 0.12 | 4.86 | 3.86 |  |  |
3 | 0.43 | 4.49 | 3.49 |  |  |
4 | 0.43 | 4.59 | 3.59 |  |  |
5 | 0.43 | 4.56 | 3.56 |  |  |
6 | 0.43 | 4.45 | 3.45 |  |  |
7 | 0.44 | 4.66 | 3.66 |  |  |
8 | 0.43 | 4.45 | 3.45 |  |  |
9 | 0.31 | 4.76 | 3.76 |  |  |
10 | 0.46 | 4.67 | 3.67 |  |  |
11 | 0.43 | 4.49 | 3.49 | $0.46 |  | $3.67
12 | 0.15 | 5.45 | 4.45 | 0.16 |  | 4.68
13 | 0.15 | 5.55 | 4.55 | 0.16 |  | 4.78
14 | 0.15 | 5.45 | 4.45 | 0.16 |  | 4.68
15 | 0.12 | 6.60 | 5.60 | 0.13 |  | 5.88

Worldwide Nonpresort Sacks
Price group | Per piece | Full service per lb. | ISC drop shipment per lb.
n/a | $0.51 | $7.63 | $6.47

Exhibit 293.311b

International Surface Air Lift (ISAL) M-Bag—Full Service
Price group | Full service per lb.
1 | $1.60
2 | 1.70
3 | 2.00
4 | 2.00
5 | 2.00
6 | 2.00
7 | 2.00
8 | 2.00
9 | 3.00
10 | 2.80
11 | 2.03
12 | 2.35
13 | 2.35
14 | 2.60
15 | 3.25
Note: Full Service M-bags are subject to the minimum price for 11 lbs.

Exhibit 293.311c

International Surface Air Lift (ISAL) M-Bag—ISC Drop Shipment
Price group | 5 lbs. | 6 lbs. | 7 lbs. | 8 lbs. | 9 lbs. | 10 lbs. | 11 lbs. | Each additional pound
1 | $15.90 | $16.00 | $16.10 | $16.20 | $16.30 | $16.40 | $16.50 | $1.50
2 | 14.30 | 14.85 | 15.40 | 15.95 | 16.50 | 17.05 | 17.60 | 1.60
3 | 11.45 | 12.75 | 14.05 | 15.35 | 16.65 | 17.95 | 19.25 | 1.75
4 | 11.45 | 12.75 | 14.05 | 15.35 | 16.65 | 17.95 | 19.25 | 1.75
5 | 11.45 | 12.75 | 14.05 | 15.35 | 16.65 | 17.95 | 19.25 | 1.75
6 | 11.45 | 12.75 | 14.05 | 15.35 | 16.65 | 17.95 | 19.25 | 1.75
7 | 11.45 | 12.75 | 14.05 | 15.35 | 16.65 | 17.95 | 19.25 | 1.75
8 | 11.45 | 12.75 | 14.05 | 15.35 | 16.65 | 17.95 | 19.25 | 1.75
9 | 18.25 | 20.25 | 22.25 | 24.25 | 26.25 | 28.25 | 30.25 | 2.75
10 | 16.25 | 18.40 | 20.55 | 22.70 | 24.85 | 27.00 | 29.15 | 2.65
11 | 11.65 | 12.99 | 14.33 | 15.67 | 17.01 | 18.35 | 19.69 | 1.79
12 | 12.90 | 14.60 | 16.30 | 18.00 | 19.70 | 21.40 | 23.10 | 2.10
13 | 14.40 | 15.85 | 17.30 | 18.75 | 20.20 | 21.65 | 23.10 | 2.10
14 | 12.05 | 14.35 | 16.65 | 18.95 | 21.25 | 23.55 | 25.85 | 2.35
15 | 16.20 | 19.00 | 21.80 | 24.60 | 27.40 | 30.20 | 33.00 | 3.00
Note: ISC Drop Shipment M-bags are subject to the minimum price for 5 lbs.

293.32 Computation of Postage

Postage is computed on PS Form 3700, Postage Statement—International Mail.

293.321 Computing Worldwide Nonpresort Prices

To compute postage at the worldwide nonpresort price multiply the number of pieces in the mailing by the applicable per-piece price, multiply the net weight (in whole pounds) of the entire mailing by the applicable per-pound price, and then add the two totals together.

293.322 Computing Presort Prices

To compute postage at the presorted price, first multiply the number of pieces in the mailing destined for countries in a specific price group by the appropriate per-piece price, then multiply the net weight (in whole pounds) of those pieces by the corresponding per-pound price, and then add the two totals together.

293.33 Postage Payment Methods

293.331 General

Postage must be paid by postage meter, permit imprint, or precanceled stamps (see DMM 604).

293.332 Postage Meter

Payments made by postage meter are subject to the following standards:

a. Piece Price. The applicable per piece postage shown in 293.311a must be affixed to each mailpiece when paying with a meter. Mailers who have an ICM agreement must affix the applicable per piece postage as set forth in their ICM agreement.

b. Pound Price. Postage for the pound price portion must be paid either by meter stamp(s) attached to the postage statement or from the mailer's authorized permit imprint advance deposit account.

c. Postage Endorsement. Each piece must be legibly endorsed with the words “INTERNATIONAL SURFACE AIR LIFT” or “ISAL”.

d. Specifications for Endorsement. The endorsement required in 293.332c must appear on the address side of each piece and must be applied by a printing press, hand stamp, or other similar printing device. It must be printed above the name of the addressee and to the left or below the postage, or it may be printed adjacent to the meter stamp in either the postal inscription slug area or ad plate area. If the postal endorsement appears in the ad plate area, no other information may be printed in the ad plate. The endorsement may not be typewritten or hand-drawn. The endorsement is not considered adequate if it is included as part of a decorative design or advertisement.

e. Unmarked Pieces. Unmarked pieces lacking the postage endorsement are subject to the First-Class Mail International single-piece price.

f. Drop Shipment of Metered Mail. Mailers who want to enter metered ISAL mail at a Post Office facility other than where the meter is licensed must obtain a drop shipment authorization. To obtain an authorization, the mailer must submit a written request to the postmaster at the office where the mail will be entered (see DMM 705).

293.333 Precanceled Stamps

Payments made by precanceled stamps are subject to the following standards:

a. Piece Price. The same denomination of stamp must be affixed to every piece in the mailing.

b. Pound Price. Additional postage is paid at the time of mailing by advance deposit account or meter stamp affixed to the back of the accompanying postage statement.

c. Postage Endorsement. Each piece must be legibly endorsed with the words “INTERNATIONAL SURFACE AIR LIFT” or “ISAL”.

d. Specifications for Endorsement. The endorsement required in 293.333c must appear on the address side of each piece and must be applied by a printing press, hand stamp, or other similar printing device. It must be printed above the name of the addressee and to the left or below the postage, or it may be printed adjacent to the precanceled stamp. The endorsement may not be typewritten or hand-drawn. The endorsement is not considered adequate if it is included as part of a decorative design or advertisement.

e. Unmarked Pieces. Unmarked pieces lacking the postage endorsement are subject to the First-Class Mail International single-piece price.

293.334 Permit Imprint

Mailers may use a permit imprint for mailings that contain identical weight pieces. Any of the permit imprints shown in Exhibit 152.44 are acceptable. Postage is calculated as described in 293.32 and is deducted from the mailer's advance deposit account. Permit imprints must not denote bulk mail, nonprofit, or other domestic or special mail. Mailers may use permit imprint with nonidentical weight pieces only if authorized to use postage mailing systems under DMM 705.

293.4 Mail Preparation

293.41 Addressing

International Surface Air Lift is subject to the addressing requirements contained in 122.

Exception—Canada: International Surface Air Lift items destined for Canada must have the applicable alphanumeric postcode included in the delivery address. See 122.1k for the address formatting requirements that generally apply to mailpieces sent to Canada.

Exception—Direct Country Sacks: International Surface Air Lift in direct country sacks (see 293.451) is not subject to the interline addressing requirement that is specified in 122.1d. At the sender's risk, the English translation of the destination Post Office or city name may be omitted from printed addresses that are in Russian, Greek, Arabic, Hebrew, Cyrillic, Japanese, or Chinese characters. An English translation of the country name (e.g. , Japan) is still required on the individual mailpieces.

293.42 Marking

293.421 Letter-Size and Flat-Size Mailpieces

The sender should mark “INTERNATIONAL SURFACE AIR LIFT” or “ISAL” on the address side of each piece. Use of bordered airmail envelopes is prohibited.

293.422 Packages (Small Packets)

Items that might be mistaken for another class of mail because of their size, weight, or appearance should be marked “LETTER-POST” on the address side.

293.43 Sealing

Mail that is sent via ISAL service may be sealed at the sender's option. See 244.4 for the packaging methods that are applicable to all First-Class Mail International items.

Exception: For direct country sacks only, First-Class Mail International folded mailpieces, without envelopes, are permitted provided one of the following methods is used:

1. All of the open sides are secured with tape, tabs, or wafer seals of sufficient quantity and strength to prevent the mailpieces from opening or being damaged during postal handling.

2. The mailpieces meet the physical standards and tabbing requirements in DMM 201.3.

293.44 Physical Characteristics and Requirements for All Bundles

The following standards apply:

a. Thickness. Bundles of letter-size mail must be no thicker than approximately a handful of mail (4 to 6 inches thick). Bundles of flat-size mail may be thicker than 6 inches but must not weigh more than 11 pounds.

b. Securing Bundles. Each bundle must be securely tied to withstand normal transit. Placing rubber bands around the length and then the girth is the preferred method of securing bundles of letter-size mail. Plastic strapping placed around the length and then the girth is the preferred method of securing bundles of flat-size mail.

c. Separation of Bundles. Letter-size and flat-size mail must be bundled separately.

d. Facing of Piece. All pieces in bundles must be faced in the same direction.

293.45 Sortation

293.451 Presort Mailings—General

Follow these steps when preparing ISAL presort mail:

a. Full Service. For presort mailings, all mail addressed to an individual country that contains 5 pounds or more must be sorted into direct country bundles and sacked in direct country sacks. Mail that cannot be made up into direct country sacks must be prepared and entered at the worldwide nonpresort prices.

b. ISC Drop Shipment. For presort mailings, all mail addressed to an individual country that contains 5 pounds or more must be sorted into direct country bundles and sacked in direct country sacks. Next, all mail addressed to individual countries within a single price group containing 5 pounds or more must be bundled separately and sacked in mixed country sacks. Mail that ultimately cannot be made up into direct country sacks or mixed country sacks must be prepared and entered at the worldwide nonpresort prices.

293.452 Presorted Mail—Direct Country Bundle Label

A label (facing slip) for direct country bundles prepared for mixed country sacks must be completed and placed on the address side of the top piece of each bundle showing the country of destination. The pressure-sensitive labels and optional endorsement lines used domestically for presort mail are prohibited for ISAL.

Exhibit 293.452

ISAL Country Price Groups and Foreign Exchange Offices

International Surface Air Lift (ISAL) Service Network Countries and Price Groups
Country | City | 3-Letter exchange office code | Price group
Argentina | Buenos Aires | BUE | 13
Australia | Sydney | SYD | 19
Austria | Vienna | VIE | 11
Belgium | Brussels | BRU | 11
Belize | Belize City | BZE | 13
Bolivia | La Paz | LPB | 13
Brazil | Rio de Janeiro | RIO | 13
Canada | See 292.47 |  | 1
Chile | Santiago | SCL | 13
China | Beijing (Peking) | PEK | 14
Colombia | Bogota | BOG | 13
Costa Rica | San Jose | SJO | 13
Czech Republic | Prague | PRG | 12
Denmark | Copenhagen | CPH | 11
Dominican Republic | Santo Domingo | SDQ | 13
Ecuador | Guayaquil | GYE | 13
Egypt | Cairo | CAI | 15
El Salvador | San Salvador | SAL | 13
Finland | Helsinki | HEL | 11
France | Paris | PAR | 5
Germany | Frankfurt | FRA | 4
Great Britain | London | LON | 3
Greece | Athens | ATH | 11
Guatemala | Guatemala City | GUA | 13
Guyana | Georgetown | GEO | 13
Haiti | Port-au-Prince | PAP | 13
Honduras | Tegucigalpa | TGU | 13
Hong Kong | Hong Kong | HKG | 14
Hungary | Budapest | BUD | 12
India | Mumbai | BOM | 15
Indonesia | Jakarta | JKT | 14
Ireland | Dublin | DUB | 11
Israel | Tel Aviv | TLV | 11
Italy | Rome | ROM | 7
Japan ¹ | Osaka Int'l | OSA | 10
| Tokyo | TYO | 10
Jordan | Amman | AMM | 15
Kenya | Nairobi | NBO | 15
Korea, Rep. of (South) | Seoul | SEL | 14
Mexico | Mexico City | MEX | 2
Netherlands | Amsterdam | AMS | 8
Netherlands Antilles | Curacao | CUR | 13
New Zealand | Auckland | AKL | 11
Nigeria | Lagos | LOS | 15
Norway | Oslo | OSL | 11
Panama | Panama City | PTY | 13
Peru | Lima | LIM | 13
Philippines | Manila | MNL | 14
Poland | Warsaw | WAW | 12
Portugal | Lisbon | LIS | 11
Romania | Bucharest | BUH | 12
Russia | Moscow | MOW | 12
Saudi Arabia | Dhahran | DHA | 15
Singapore | Singapore | SIN | 14
South Africa | Johannesburg | JNB | 15
Spain ² | Madrid | MAD | 11
Sweden | Stockholm | STO | 11
Switzerland | Basel | BSL | 6
Taiwan | Taipei | TPE | 14
Thailand | Bangkok | BKK | 14
Trinidad and Tobago | Port of Spain | POS | 13
Turkey | Istanbul | IST | 12
United Arab Emirates | Dubai | DXB | 15
Uruguay | Montevideo | MVD | 13
Venezuela | Caracas | CCS | 13
¹ To expedite handling, Japan Post has requested that U.S. shippers make the following optional separation of their ISAL mail:
—Mail destined for locations in Japan with post code prefixes 52-93 should be labeled to Osaka International (OSA).
—Mail destined for all other post code prefixes should be labeled to Tokyo (TYO).
All ISAL mail that is not optionally separated as specified above should be labeled to Tokyo (TYO).
² Including the Canary Islands.

* * * * *

293.453 Worldwide Nonpresort Mail—General

ISAL mail paid at the worldwide nonpresort price must be made into bundles as defined in 293.44. Letters and flats must be bundled separately, although nonidentical pieces may be commingled within each of these categories. Pieces that cannot be bundled because of their physical characteristics must be placed loose in the sack and do not require labeling (facing slips).

293.46 Sacking Requirements

293.461 Direct Country Sack (5 Pounds or More)

The following standards apply:

a. General. When there are 5 pounds or more of mail addressed to the same country the mail must be enclosed in a Direct Country Sack. All types of mail, including letter-size bundles, flat-size bundles, and loose items, can be commingled in the same sack for each destination and counted toward the 5-pound minimum. The maximum weight of the sack and contents must not exceed 66 pounds.

b. Direct Country Sack Tags. Direct country sacks must be labeled with PS Tag 155, Surface Airlift Mail, showing the destination country. The mailer must also specify the price group on the back of PS Tag 155.

c. Direct Country Sack Label. The sack label must be completed as follows. (See Exhibit 293.462 for list of U.S. International Exchange Offices.)

Line 1: Appropriate U.S. Exchange Office and Routing Code

Line 2: Contents—DRX

Line 3: Mailer, Mailer Location

Example:

ISC NEW YORK NY 003

ISAL—DRX COUNTRY

ABC STORE, ALBANY NY

293.462 Mixed Country Sacks (5 Pounds or More—ISC Drop Shipment Only)

The following standards apply:

a. General. When mail is prepared under the ISC drop shipment option, direct country bundles destined to a specific country that cannot be made up in direct country sacks must be prepared in a mixed country sack. A mixed country sack must be prepared for each price group. Only countries in price groups 11 through 15 are eligible for this price. The maximum weight of the sack and the contents must not exceed 66 pounds.

b. Mixed Country Sack Tags. Mixed country sacks must be labeled with PS Tag 155, Surface Airlift Mail, which identifies the mail to ensure it receives priority handling. The mailer must specify the price group on the back of PS Tag 155.

c. Mixed Country Sack Label. The sack label must be completed as follows. (See Exhibit 293.462 for list of U.S. International Exchange Offices.)

Line 1: Appropriate U.S. Exchange Office and Routing Code

Line 2: Contents—DRX MIXED

Line 3: Mailer, Mailer Location

Example:

ISC NEW YORK NY 003

ISAL—DRX MIXED

ABC STORE, ALBANY NY

Exhibit 293.462

Labeling of ISAL Mail to Postal Service Exchange Offices
ISAL acceptance office 3-Digit ZIP code prefix | U.S. exchange office and routing code for line 1
004-005, 010-089, 100-268, 270-297, 400-418, 420-427, 470-471, 476-477 | ISC NEW YORK NY 003.
006-009, 298-339, 341-342, 344, 346-347, 349-397, 399 | ISC MIAMI FL 33112.
424, 430-469, 478-516, 520-528, 530-531, 534-535, 537-567, 570-588, 600-620, 622-631, 633-641, 644-658, 660-662, 664-681, 683-693, 700-708, 710-799, 885 | ISC CHICAGO IL 60290.
590-599, 821, 832-838, 970-986, 970-999 | AMC SEATTLE WA 980.
800-816, 820, 822-831, 840-847, 893-898, 937-961 | ISC SAN FRANCISCO CA 94013.
850, 852-853, 855-857, 859-860, 863-865, 870-875, 877-884, 889-891, 900-908, 910-928, 930-936 | ISC LOS ANGELES CA 900.
967-969 | P&DC HONOLULU HI 967.

293.463 Worldwide Nonpresort Mail Sacks

The following standards apply:

a. General. The working bundles of mixed country mail and loose items must be enclosed in sacks unless other equipment is specified by the acceptance office. Nonpresorted letter-size mail may be presented in trays if authorized by the acceptance office. The maximum weight of the sack, or tray, and the contents must not exceed 66 pounds.

Note: Working bundles of mixed country mail cannot be enclosed in mixed country sacks.

b. Worldwide Nonpresort Sack Tags. Sack tags for worldwide nonpresort sacks must be labeled with PS Tag 155, Surface Airlift Mail, that identifies the mail to ensure it receives priority handling. The mailer must specify “WW” (worldwide) on the back of PS Tag 155.

c. Worldwide Nonpresort Mail Sack Label. The sack label must be completed as follows: (See Exhibit 293.462 for list of U.S. International Exchange Offices.)

Line 1: Appropriate U.S. Exchange Office and Routing Code

Line 2: Contents WKG

Line 3: Mailer, Mailer Location

Example:

ISC MIAMI FL 33112

ISAL—WKG

ABC COMPANY, MIAMI FL

293.5 Enter and Deposit

293.51 Separation by Price Group

The mailer must specify the price group on the back of PS Tag 155, Surface Airlift Mail, with (e.g. , “1” for Canada, and “WW'' for Worldwide nonpresort), and must physically separate the sacks by price group at the time of mailing.

293.52 Full Service

Mailings must be deposited at a Post Office facility where bulk mail is accepted and the mailer holds an advance deposit account or postage meter license.

293.53 Drop Shipment

To qualify for the drop shipment price, mailers must present the mail to one of the locations in 293.531. The mailer must pay postage at the drop shipment location either through an advance deposit account or postage meter license at the serving Post Office facility. As an alternative, mailers who are participating in the Plant-Verified Drop Shipment (PVDS) program may have the mail verified, accepted, and paid for at the mailers plant or at the origin Post Office facility serving the mailers plant if authorized under DMM 705. Plant-verified drop shipment mail must be transported by the mailer to the drop shipment location and the mail must be accompanied by PS Form 8125, Plant-Verified Drop Shipment (PVDS) Verification and Clearance.

293.531 Drop Shipment Locations

Drop shipments are available through the following offices:

New York: John F. Kennedy Airport Mail Ctr, US Postal Service, John F Kennedy International Airport Bldg 250, Jamaica, NY 11430-9998.

Florida:

Miami International Service Ctr*, US Postal Service, 11698 NW 25th St, Miami, FL 33112-9997.

Miami Processing And Distribution Ctr, US Postal Service, 2200 NW 72nd Ave, Miami, FL 33152-9997.

Texas: North Texas P&DC, US Postal Service, 951 W Bethell Rd, Coppell, TX 75099-8811.

Illinois: JT Weeker International Service Center, US Postal Service, O'Hare International Airport, 514 Express Center Dr., Chicago, IL 60688-9998.

California: Los Angeles ISC, US Postal Service, 21750 Arnold Center Rd, Carson, CA 90810-9998.

San Francisco ISC, US Postal Service, 2650 Bayshore Blvd., Daly City, CA 94013-1631.

*Only plant-verified mail is transported to these facilities by the mailer.

* * * * *

3 Extra Services

310 Certificate of Mailing

* * * * *

313 Fees

313.1 Individual Pieces

[Revise 313.1 by changing the certificate of mailing fee from $1.10 to $1.15 (in two places); and the Firm Mailing Book fee from $0.40 to $0.42.]

313.2 Bulk Pieces

[Revise the table in 313.2 as follows:]

Up to 1,000 pieces | $6.50
Each addition 1, 000 pieces or fraction | 0.75
Duplicate copy | 1.15

* * * * *

330 Registered Mail

* * * * *

333 Fees and Indemnity Limits

333.1 Registration Fees

[Change the registry fee to $11.50.]

* * * * *

340 Return Receipt

* * * * *

343 Fee

[Revise 343 by changing the fee to $2.30.]

* * * * *

350 Restricted Delivery

* * * * *

353 Fee

[Revise 353 by changing the fee to $4.50.]

* * * * *

Index of Countries and Localities

Country Conditions for Mailing

* * * * *

[Replace the current price tables in the Individual Country Listings with the following:]

First-Class Mail International Letters
Weight not over (oz.) | Price groups: 1 | Price groups: 2 | Price groups: 3, 4, 5 | Price groups: 6, 7, 8, 9
1 | $0.75 | $0.79 | $0.98 | $0.98
2 | 1.00 | 1.34 | 1.82 | 1.76
3 | 1.25 | 1.89 | 2.66 | 2.54
3.5 | 1.50 | 2.44 | 3.50 | 3.32
Postcards | 0.75 | 0.79 | 0.98 | 0.98

First-Class Mail International Large Envelopes (Flats)
Weight not over (oz.) | Price groups: 1 | Price groups: 2 | Price groups: 3, 4, 5 | Price groups: 6, 7, 8, 9
1 | $1.03 | $1.03 | $1.24 | $1.24
2 | 1.29 | 1.59 | 2.08 | 2.03
3 | 1.55 | 2.15 | 2.92 | 2.82
4 | 1.81 | 2.71 | 3.76 | 3.61
5 | 2.07 | 3.27 | 4.60 | 4.40
6 | 2.33 | 3.83 | 5.44 | 5.19
7 | 2.59 | 4.39 | 6.28 | 5.98
8 | 2.85 | 4.95 | 7.12 | 6.77
12 | 3.83 | 6.50 | 8.84 | 8.44
16 | 4.81 | 8.05 | 10.56 | 10.11
20 | 5.79 | 9.60 | 12.28 | 11.78
24 | 6.77 | 11.15 | 14.00 | 13.45
28 | 7.75 | 12.70 | 15.72 | 15.12
32 | 8.73 | 14.25 | 17.44 | 16.79
36 | 9.71 | 15.80 | 19.16 | 18.46
40 | 10.69 | 17.35 | 20.88 | 20.13
44 | 11.67 | 18.90 | 22.60 | 21.80
48 | 12.65 | 20.45 | 24.32 | 23.47
52 | 13.63 | 22.00 | 26.04 | 25.14
56 | 14.61 | 23.55 | 27.76 | 26.81
60 | 15.59 | 25.10 | 29.48 | 28.48
64 | 16.57 | 26.65 | 31.20 | 30.15

First-Class Mail International Packages (Small Packets)
Weight not over (oz.) | Price groups: 1 | Price groups: 2 | Price groups: 3, 4, 5 | Price groups: 6, 7, 8, 9
1 | $1.23 | $1.23 | $1.44 | $1.44
2 | 1.49 | 1.79 | 2.28 | 2.23
3 | 1.75 | 2.35 | 3.12 | 3.02
4 | 2.01 | 2.91 | 3.96 | 3.81
5 | 2.27 | 3.47 | 4.80 | 4.60
6 | 2.53 | 4.03 | 5.64 | 5.39
7 | 2.79 | 4.59 | 6.48 | 6.18
8 | 3.05 | 5.15 | 7.32 | 6.97
12 | 4.03 | 6.70 | 9.04 | 8.64
16 | 5.01 | 8.25 | 10.76 | 10.31
20 | 5.99 | 9.80 | 12.48 | 11.98
24 | 6.97 | 11.35 | 14.20 | 13.65
28 | 7.95 | 12.90 | 15.92 | 15.32
32 | 8.93 | 14.45 | 17.64 | 16.99
36 | 9.91 | 16.00 | 19.36 | 18.66
40 | 10.89 | 17.55 | 21.08 | 20.33
44 | 11.87 | 19.10 | 22.80 | 22.00
48 | 12.85 | 20.65 | 24.52 | 23.67
52 | 13.83 | 22.20 | 26.24 | 25.34
56 | 14.81 | 23.75 | 27.96 | 27.01
60 | 15.79 | 25.30 | 29.68 | 28.68
64 | 16.77 | 26.85 | 31.40 | 30.35

* * * * *

[Replace the current tables in the Individual Country Listings for countries with Express Mail International merchandise insurance with current fees to read as follows:]

Insurance (221.3)
Insured amount not over | Fee | Insured amount not over | Fee
$100 | No fee | For insurance coverage above $2,000, add $1.40 for each $500 or fraction thereof, up to a maximum of $5,000 per shipment.
200 | $0.75
500 | 2.15
1,000 | 3.55
1,500 | 4.95
2,000 | 6.35 | $5,000 max | $14.75

* * * * *

[Revise the Canada Country Listing as follows:]

Canada

Insurance (320)

Available for Priority Mail International parcels only (see 344.3 for markings).

Insured amount not over | Fee
$50 | $1.75
100 | 2.25
200 | 2.75
300 | 4.70
400 | 5.70
500 | 6.70
600 | 7.70
675 | 8.70

[Revise all other country listings to which Priority Mail International parcel insurance is offered up to the amount available as follows:]

Insured amount not over | Fee | Insured amount not over | Fee
$50 | $2.50 | Add $1.00 for each additional $100 or fraction of insurance coverage.
100 | 3.40
200 | 4.40
300 | 5.40
400 | 6.40
500 | 7.40 | $5,000 max | $52.40

* * * * *

[Revise the following Extra Services fees in the Individual Country Listings:]

Registered Mail (330) Fee: $11.50

Restricted Delivery (350) Fee: $4.50

Return Receipt (340) Fee: $2.30

* * * * *

Neva R. Watson,
Attorney, Legislative.

[FR Doc. E9-3962 Filed 2-24-09; 8:45 am]

BILLING CODE 7710-12-P